FEDERAL RESERVE SYSTEM

Formations of, Acquisitions by, and Mergers of Bank Holding Companies; Correction

This notice corrects a notice (FR Doc. 2015-30856) published on page 76287 of the issue for Tuesday, December 8, 2015.

Under the Federal Reserve Bank of Atlanta heading, the entry for Seacoast Banking Corporation of Florida, Stuart, Florida, is revised to read as follows:

1. CapGen Capital Group III LP, CapGen Capital Group III LLC, both in New York, New York, and Seacoast Banking Corporation of Florida, Stuart, Florida; to merge with Floridian Financial Group, Inc., Lake Mary, Florida, and thereby indirectly acquire Floridian Bank, Daytona Beach, Florida.

Comments on this application must be received by January 4, 2016.

Board of Governors of the Federal Reserve System, December 8, 2015.
Michael J. Lewandowski,
Associate Secretary of the Board.

[FR Doc. 2015-31270 Filed 12-10-15; 8:45 am]

BILLING CODE 6210-01-P